SECURITIES AND EXCHANGE COMMISSION

[Release No. 34-54633]

Notice of Intention To Cancel Registrations of Certain Transfer Agents

October 20, 2006.

Notice is hereby given that the Securities and Exchange Commission (“Commission”) intends to issue an order, pursuant to Section 17A(c)(4)(B) of the Securities Exchange Act of 1934 (“Act”),¹ cancelling the registrations of the transfer agents whose names appear in the attached Appendix.

¹ 15 U.S.C. 78q-1(c)(4)(B).

For Further Information Contact: Jerry W. Carpenter, Assistant Director, or Catherine Moore, Special Counsel, at (202) 551-5710, Division of Market Regulation, Securities and Exchange Commission, 100 F Street, NE., Washington, DC 20549-6628.

Background

Section 17A(c)(4)(B) of the Act provides that if the Commission finds that any transfer agent registered with the Commission is no longer in existence or has ceased to do business as a transfer agent, the Commission shall by order cancel that transfer agent's registration. Accordingly, at any time after November 27, 2006, the Commission intends to issue an order cancelling the registrations of the transfer agents listed in the Appendix.

The Commission has made efforts to locate and to determine the status of each of the transfer agents listed in the Appendix. In some cases, the Commission was unable to locate the transfer agent, and in other cases, the Commission learned that the transfer agent had ceased doing business as a transfer agent. Therefore, based on the facts it has, the Commission believes that the transfer agents listed in the Appendix are no longer in existence or have ceased doing business as transfer agents.

Any transfer agent listed in the Appendix that believes its registration should not be cancelled must notify the Commission in writing prior to November 27, 2006. Written notifications may be mailed to: Catherine Moore, Division of Market Regulation, Securities and Exchange Commission, 100 F Street, NE., Washington, DC 20459-6628. Written notifications may also be e-mailed to: marketreg@sec.gov to the attention of Catherine Moore, with the phrase “Notice of Intention to Cancel Transfer Agent Registration” in the subject line.

² 17 CFR 200.30-3(a)(22).

For the Commission by the Division of Market Regulation, pursuant to delegated authority.²
Nancy M. Morris,
Secretary.

Appendix

Registration No. | Name
84-0019 | LG & E Energy Corp.
84-0548 | American Bancservices Inc.
84-0711 | Niagara Mohawk Power Corp.
84-0904 | Pfizer Inc.
84-1257 | BNY Clearing Services LLC.
84-1663 | Merrill Lynch Investment Partners Inc.
84-1735 | Alpha Tech Stock Transfer Trust.
84-1737 | Declaration Service Company.
84-1828 | Consumers Financial Corp.
84-1923 | WOC Stock Transfer Company, Inc.
84-5494 | Metropolitan Mortgage and Securities Co., Inc.
84-5550 | Cinergy Service, Inc.
84-5606 | Sunstates Corporation.
84-5647 | Penn Street Advisors, Inc.
84-5694 | Khan Funds.
84-5720 | Bulto Transfer Agency, Limited Liability Company.
84-5727 | Impact Administrative Service, Inc.
84-5754 | Alpine Fiduciary Services, Inc.
84-5755 | River Oaks Partnership Services, Inc.
84-5756 | IDM Corporation.
84-5773 | RVM Industries, Inc.
84-5812 | Stock Transfer of America, Inc.
84-5816 | Wasatch Stock Transfer, Inc.
84-5820 | Gerdine & Associates.
84-5826 | Lewis, Corey L.
84-5847 | Financial Strategies, LLC.
84-5872 | D-Lanz Development Group, Inc.
84-5873 | CBIZ Retirement Services, Inc.
84-5885 | Sovereign Depository Corporation.
84-5897 | Newport Stock Transfer Agency, Inc.
84-5899 | U.S. Corporate Support Services, Inc.
84-5912 | Femis Kerger & Company Transfer Agent & Registrar.
84-6019 | Touch America.
84-6032 | Merge Media, Inc.
84-6034 | Chapman Capital Management, Inc.
84-6039 | First Financial Escrow & Transfer, Inc.
84-6045 | Pharmacy Buying Association, Inc.
84-6059 | Street Transfer & Registrar Agency.
84-6077 | Brown Brothers Harriman & Co.
84-6092 | Brookhill Stock Transfer Business Trust.
84-6097 | Certified Water Systems, Inc.
84-6101 | Lauries Happy Thoughts, Inc.
84-6126 | Fidelity Custodian Services, Inc.
84-6131 | Carolyn Plant.
84-6157 | Encompass Corporate Services.

[FR Doc. E6-17928 Filed 10-25-06; 8:45 am]

BILLING CODE 8011-01-P